DEPARTMENT OF JUSTICE

Notice of Lodging of Consent Decree Under the Clean Water Act

Notice is hereby given that on January 31, 2002 a proposed Consent Decree in United States v. Deltech Corp., Civil Action No. 02-131-B-M1 was lodged with the United States District Court for the Middle District of Louisiana.

In this action the United States sought civil penalties and injunctive relief for violations of the Clean Water Act and Deltech's NPDES Permit at it's speciality chemical plant in Baton Rouge, Louisiana. The Consent Decree settles the United States' claims against Deltech for discharging pollutants in excess of its permit limits and failing to properly operate and maintain its facility. The Consent Decree requires that Deltech install a water recycling system and a clarifier to treat its process waste. It also requires that Deltech pay a civil penalty of $120,000 for past violations and perform a $50,000 Supplemental Environment Road Paving Project.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Deltech Corp. No. 02-131-B-M1 (M.D. La.), D.O.J. Ref. 90-5-1-1-4494.

The Consent Decree may be examined at the Office of the United States Attorney, Middle District of Louisiana, 777 Florida Street, Room 208, Baton Rouge, Louisiana 70801, and at U.S. EPA Region 6, 1445 Ross Avenue, Dallas, Texas 75202-2733. A copy of the Consent Decree may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $5.75 (25 cents per page reproduction cost) payable to the U.S. Treasury.

Thomas A. Mariani, Jr.,
Assistant Chief, Environmental Enforcement Section, Environment and Natural Resources Division.

[FR Doc. 02-4696 Filed 2-27-02; 8:45 am]

BILLING CODE 4410-15-M